DEPARTMENT OF EDUCATION

[Docket No.: ED-2013-ICCD-0132]

Agency Information Collection Activities; Comment Request; Evaluating the Retired Mentors for Teachers Program

AGENCY: Institute of Education Sciences (IES), Department of Education (ED).

ACTION: Notice.

SUMMARY: In accordance with the Paperwork Reduction Act of 1995 (44 U.S.C. chapter 3501 et seq.), ED is proposing a new information collection.

DATES: Interested persons are invited to submit comments on or before January 6, 2014.

ADDRESSES: Comments submitted in response to this notice should be submitted electronically through the Federal eRulemaking Portal at http://www.regulations.gov by selecting Docket ID number ED-2013-ICCD-0132 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E105, Washington, DC 20202-4537.

FOR FURTHER INFORMATION CONTACT: For questions related to collection activities or burden, please call Katrina Ingalls at 703-620-3655 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluating the Retired Mentors for Teachers Program.

OMB Control Number: 1850-New.

Type of Review: A new information collection.

Respondents/Affected Public: Individuals or households.

Total Estimated Number of Annual Responses: 442.

Total Estimated Number of Annual Burden Hours: 274.

Abstract: OMB clearance is requested for a comprehensive randomized control trial study of the Retired Mentors for New Teachers program for probationary teachers developed by the Aurora Public School District (APS), in Aurora Colorado. The program uses recently retired master teachers to provide one-on-one mentoring to probationary teachers in high poverty elementary schools. The program was developed by APS over a three year period from 2008-2011. The district has partnered with REL Central to conduct a Randomized Control Trial (RCT) study of the program because it desires to understand program impacts on teacher retention, performance, and teacher evaluations. The district has committed resources to pay for the intervention as well as for teachers to participate in any data gathering activities, such as surveys or focus groups. This OMB clearance request is to collect data from 100 teachers and 8 teacher mentors. It does not include data collection from students.

Dated: November 4, 2013.
Stephanie Valentine,
Acting Director, Information Collection Clearance Division, Privacy, Information and Records Management Services, Office of Management.

[FR Doc. 2013-26694 Filed 11-6-13; 8:45 am]

BILLING CODE 4000-01-P